DEPARTMENT OF TRANSPORTATION

Federal Railroad Administration

Notice of Funding Opportunity for Interstate Rail Compacts

AGENCY: Federal Railroad Administration (FRA), Department of Transportation (DOT).

ACTION: Notice of funding opportunity (NOFO or notice).

SUMMARY: This notice details the application requirements and procedures to obtain grant funding for eligible projects under the Interstate Rail Compacts Grant Program. The opportunities described in this notice are made available under Assistance Listings Number 20.328.

DATES: Applications for funding under this solicitation are due no later than 5 p.m. ET, July 10, 2023. Applications that are incomplete or received after 5 p.m. ET on July 10, 2023 will not be considered for funding. See Section D of this notice for additional information on the application process.

ADDRESSES: Applications must be submitted via www.Grants.gov. Only applicants who comply with all submission requirements described in this notice and submit applications through www.Grants.gov will be eligible for award. For any supporting application materials that an applicant is unable to submit via www.Grants.gov, an applicant may submit an original and two (2) copies to Mr. Marc Dixon, Office of Rail Program Development, Federal Railroad Administration, 1200 New Jersey Avenue SE, Mail Stop 20, Washington, DC 20590. However, due to delays caused by enhanced screening of mail delivered via the U.S. Postal Service, applicants are advised to use other means of conveyance (such as courier service) to assure timely receipt of materials before the application deadline.

FOR FURTHER INFORMATION CONTACT: For further project or program-related information in this notice, please contact the FRA NOFO Support program staff via email at FRA-NOFO-Support@dot.gov. If additional assistance is needed you may contact Mr. Marc Dixon, Office of Rail Program Development, Federal Railroad Administration; email: marc.dixon@dot.gov; phone: 202-493-0614.

SUPPLEMENTARY INFORMATION:

Notice to applicants: FRA recommends that applicants read this notice in its entirety prior to preparing application materials. Definitions of key terms used throughout the NOFO are provided in Section A.2. These key terms are capitalized throughout the NOFO. There are several administrative prerequisites and specific eligibility requirements described herein with which applicants must comply. Additionally, applicants should note that the required Project Narrative component of the application package may not exceed 15 pages in length.

Table of Contents

A. Program Description

B. Federal Award Information

C. Eligibility Information

D. Application and Submission Information

E. Application Review Information

F. Federal Award Administration Information

G. Federal Awarding Agency Contacts

H. Other Information

A. Program Description

1. Overview

The Interstate Rail Compacts grant program (Program) is a new competitive program that will provide financial assistance to entities implementing Interstate Rail Compacts pursuant to section 410 of the Amtrak Reform and Accountability Act of 1997 (49 U.S.C. 24101). The purpose of the Program is to improve, promote, and develop intercity passenger rail service, including activities related to the financing of such service, and to encourage multi-state grant applications. Grants under the Program are authorized for costs of administration; systems planning, including studying the impacts on freight rail operations and ridership; promotion of intercity passenger rail operation; preparation of applications for competitive Federal grant programs; and operations coordination.

The Program is authorized in section 22306 of the Infrastructure Investment and Jobs Act, 2021, Div B, Tit. II, Public Law 117-58 (IIJA); codified at 49 U.S.C. 22910. This NOFO is funded by the advanced appropriations provided under Division J of IIJA. The opportunity described in this NOFO is made available under Assistance Listings Number 20.328, “Interstate Rail Compacts.”

In August 2022, FRA published a Request for Information (RFI) in the Federal Register to solicit input from stakeholders about implementing the Program (Docket No. FRA-2022-0064). FRA received nine comments in response to the RFI. FRA considered the comments received in preparing this NOFO. Specifically, FRA incorporated feedback from commenters in providing examples of eligible activities. In addition, the RFI solicited input from stakeholders about technical support or other types of assistance FRA may be able to offer to States interested in establishing IRCs. FRA is continuing to review this feedback as it considers how to provide technical support for such endeavors.

While the discretionary grant awards funded through the Program will not directly fund rail capital projects, the activities supported by the Program will help prepare entities implementing Interstate Rail Compacts to develop rail capital projects that advance safety, economic strength and global competitiveness, equity, climate and sustainability, and transformation, consistent with the U.S. Department of Transportation's (DOT) strategic goals.¹

¹ DOT Strategic Goals are identified in the DOT Strategic Plan FY 2022-2026 (March 2022) at https://www.transportation.gov/sites/dot.gov/files/2022-04/US_DOT_FY2022-26_Strategic_Plan.pdf.

Section E of this NOFO, which outlines the grant selection criteria, describes the process for selecting grant projects that further these goals. Section F.3 describes progress and performance reporting requirements for selected grant projects. This NOFO uses the term project to describe the set of activities proposed for funding in the application.

2. Definitions of Key Terms

Terms defined in this section are capitalized throughout this NOFO.

a. “Intercity Rail Passenger Transportation” means rail passenger transportation, except commuter rail passenger transportation. See 49 U.S.C. 22901(3). In this notice, “Intercity Passenger Rail Service” and “Intercity Passenger Rail Transportation” are equivalent terms to “Intercity Rail Passenger Transportation.”

b. “Interstate Rail Compact” for the purposes of this program, means legislatively enacted agreement or compact that establishes a formal, legally binding relationship between two or more States to prepare for and provide Intercity Passenger Rail Service.

B. Federal Award Information

1. Available Award Amount

The total funding available for awards under this NOFO is $5,815,800. Should additional funds become available after the release of this NOFO, FRA may elect to award such additional funds to applications received under this NOFO.

2. Award Size

The maximum award for each railroad Interstate Rail Compact grant will be capped at $1,000,000 per year, and subsequent funding opportunities will be made available in future years. FRA anticipates making multiple awards with the available funding but may not award grants under this program for more than 10 Interstate Rail Compacts in any fiscal year. FRA may not be able to award grants to all eligible applications even if they meet or exceed the stated evaluation criteria (see Section E, Application Review Information). Projects may require more funding than is available.

3. Award Type

FRA will make awards for projects selected under this notice through grant agreements and/or cooperative agreements. Grant agreements are used when FRA does not expect to have substantial Federal involvement in carrying out the funded activity. Cooperative agreements allow for substantial Federal involvement in carrying out the agreed upon investment, including technical assistance, review of interim work products, and increased program oversight. The funding provided under this NOFO will be made available to grant recipients on a reimbursable basis. Applicants must certify that their expenditures are allowable, allocable, reasonable, and necessary to the approved project before seeking reimbursement from FRA. Additionally, the grant recipient is expected to expend matching funds at the required percentage concurrent with Federal funds throughout the life of the project. See an example of standard terms and conditions for FRA grant awards at: https://www.fra.dot.gov/eLib/Details/L19057. This template is subject to revision.

4. Concurrent Applications

DOT and FRA may be concurrently soliciting applications for several financial assistance programs. Applicants may submit applications requesting funding for a particular project to one or more of these programs. In the application for funding under this NOFO, applicants must indicate the other programs and NOFOs to which they submitted or plan to submit an application for funding for the entire project or certain project components, as well as highlight new or revised information in the application responsive to this NOFO that differs from the previously submitted application(s). In addition, applicants should identify, to the extent possible, any anticipated applications for future rounds of FRA financial assistance for the project or project components.

C. Eligibility Information

This section of the notice explains applicant eligibility, cost sharing and matching requirements, and grant project eligibility. Applications that do not meet the requirements in this section will be ineligible for funding. Instructions for submitting eligibility information to FRA are detailed in Section D of this NOFO.

1. Eligible Applicants

Entities implementing Interstate Rail Compacts pursuant to section 410 of the Amtrak Reform and Accountability Reform Act of 1997 (49 U.S.C. 24101 note) are eligible applicants under this notice. Under section 410, Congress granted advance consent to States to enter into Interstate Rail Compacts in order to promote intercity passenger rail service. Entities implementing Interstate Rail Compacts means an existing entity, such as a commission, that has been established by member states to implement the Interstate Rail Compact.

Applications must identify an eligible applicant as the lead applicant. The lead applicant serves as the primary point of contact for the application, and if selected, as the grant recipient. Eligible applicants may reference entities that are not eligible applicants in an application as a project partner.

2. Cost Sharing or Matching

The Federal share of total costs for Interstate Rail Compacts projects funded under this notice will not exceed 50 percent, though FRA will provide selection preference to applications where the proposed Federal share of eligible expenses under the grant is less than 50 percent. The estimated expenses must be based on the best available information and supported within the application.

The minimum 50 percent non-Federal match for Interstate Rail Compacts-funded projects may be composed of public sector (e.g., state or local) and/or private sector funding. FRA will not consider any Federal financial assistance ² nor any non-Federal funds already expended (or otherwise encumbered) toward the matching requirement, unless compliant with 2 CFR part 200. In-kind contributions, including the donation of services, materials, and equipment, may be credited as a project cost, in a uniform manner consistent with 2 CFR 200.306.

² See Section D(2)(a)(iii) for supporting information required to demonstrate eligibility of Federal funds for use as match.

Before applying, applicants should carefully review the principles for cost sharing or matching in 2 CFR 200.306. See Section D(2)(a)(iii) for required application information on non-Federal match and Section E for further discussion of FRA's consideration of matching funds in the review and selection process. FRA will approve pre-award costs consistent with 2 CFR 200.458, as applicable. See Section D(6).

Cost sharing or matching may be used only for authorized Federal award purposes.

3. Other

Project Eligibility

Eligible expenses must be related to intercity passenger rail service to be operated by Amtrak. IRC projects consisting of the following activities are eligible for funding under 49 U.S.C. 22910 and this NOFO.

a. Costs of Administration, which include staffing costs for administrative, professional, or technical staff, or contractors serving administrative functions or providing technical oversight. Costs of administration also include the cost of activities or work products that facilitate Interstate Rail Compacts carrying out their duties effectively and timely, such as information technology, accounting, human resources, and procurement.

b. Systems Planning, consistent with FRA's Guidance on Development and Implementation of Railroad Capital Projects (January 11, 2023), is a high-level planning process that considers creating new transportation services as well as enhancing existing transportation systems. This planning process promotes a safe, efficient, and comprehensive rail system within the multi-modal national transportation system. Systems planning examines broad needs, challenges, and opportunities that can be addressed with a transportation-related solution, including capital projects. Comprehensive systems planning for a regional passenger rail network considers links with other transportation modes for seamless, integrated transportation to carry travelers from origin to destination within and between megaregions.

c. Promotion of intercity passenger rail operation, including marketing and advertising intercity passenger rail services. Promotional activities include website development, social media management, print materials, direct advertising, collecting customer feedback, and stakeholder outreach.

d. Preparation of applications for competitive federal grant programs, including technical staff or contractor support to prepare applications and documentation associated with preparing an application for financial assistance, such as preparing operating plans, funding plans, benefit-cost analysis, and any other documentation that is required to be provided as part of an application for a federal grant.

e. Operations Coordination, including coordinating interstate passenger rail services among states and with shared freight operations. Examples include, syncing schedules to facilitate better connections between overlapping services, identifying opportunities for creating operational efficiencies through optimizing the use of shared Amtrak resources, coordinating corridor utilization by other stakeholders such as freight rail, right of way coordination, shared maintenance, and joint procurement of services or equipment.

D. Application and Submission Information

Required documents for the application are outlined in the following paragraphs. Applicants must complete and submit all components of the application. See Section D(2) for the application checklist. FRA welcomes the submission of additional relevant supporting documentation, such as planning, engineering and design documentation, and letters of support from partnering organizations, all of which will not count against the Project Narrative 15-page limit.

1. Address To Request Application Package

Applicants may access the application through www.grants.gov. Applicants must submit all application materials in their entirety through www.Grants.gov no later than 5 p.m. ET, on July 10, 2023. FRA reserves the right to modify this deadline. General information for submitting applications through Grants.gov can be found at: https://www.fra.dot.gov/Page/P0270. FRA is committed to ensuring that information is available in appropriate alternative formats to meet the requirements of persons who have a disability. If you require an alternative version of files provided, please contact Laura Mahoney, Office of the Chief Financial Officer, Federal Railroad Administration, 1200 New Jersey Avenue SE, Washington, DC 20590; email: laura.mahoney@dot.gov; phone: 202-578-9337.

2. Content and Form of Application Submission

FRA strongly advises applicants to read this section carefully. Applicants must submit all required information and components of the application package to be considered for funding.

Project budgets should show how different funding sources will share in each activity and present those data in dollars and percentages. The budget should identify other Federal funds the applicant is applying for or has been awarded, if any, that the applicant intends to use. Funding sources should be grouped into three categories: non-Federal, funding requested through the IRC program, and other Federal with specific amounts from each funding source. The Department may share application information within the Department or with other Federal agencies if the Department determines that sharing is relevant to the respective program's objectives. Required documents for an application package are outlined in the checklist below.

i. Project Narrative (see D.2.a)

ii. Statement of Work (see D.2.b.i)

iii. SF424—Application for Federal Assistance

iv. Either: SF 424A—Budget Information for Non-Construction

v. Either: SF 424B—Assurances for Non-Construction projects

vi. FRA's Additional Assurances and Certifications

vii. SF LLL—Disclosure of Lobbying Activities

a. Project Narrative

This section describes the minimum content required in the Project Narrative of the grant application. The Project Narrative must follow the basic outline below to address the program requirements and assist evaluators in locating relevant information.

I. Cover Page | See D.2.a.i.
II. Project Summary | See D.2.a.ii.
III. Project Funding | See D.2.a.iii.
IV. Applicant Eligibility | See D.2.a.iv.
V. Project Eligibility | See D.2.a.v.
VI. Detailed Project Description | See D.2.a.vi.
VII. Project Location | See D.2.a.vii.
VIII. Evaluation and Selection Criteria and DOT Strategic Goals | See D.2.a.viii.
IX. Project Implementation and Management | See D.2.a.ix.

The above content must be provided in a narrative statement submitted by the applicant. The Project Narrative may not exceed 15 pages in length (excluding cover pages, table of contents, and supporting documentation). FRA will not review or consider Project Narratives beyond the 15-page limitation. If possible, applicants should submit supporting documents via website links rather than hard copies. If supporting documents are submitted, applicants must clearly identify the page number(s) of the relevant portion in the Project Narrative supporting documentation. The Project Narrative must adhere to the following outline.

i. Cover Page: Include a cover page that lists the following elements in a table:

Project Title |
Applicant |
Amount of Federal Funding Requested in this Application | $.
Proposed Non-Federal Match | $.
Was a Federal grant application previously submitted for this project? | Yes/No.
If yes, state the name of the Federal grant program and title of the activities in the previous application. | Federal Grant Program: Activity Title:
City(ies), State(s) where the activities are located. |
Has the applicant engaged in any prior corridor or service planning activities such as: Service Development Plans, State rail plans, etc.? | Yes/No. (If yes, please specify).

ii. Project Summary: Provide a brief 4-6 sentence summary of the project proposed under the IRC grant and what that project will entail. Include challenges the proposed project aims to address and summarize the intended outcomes and anticipated benefits that will result from the proposed project.

iii. Project Funding: Indicate in table format the amount of Federal funding requested, the proposed non-Federal match, identifying contributions from the private sector if applicable, and total project cost. Describe the non-Federal funding arrangement, including multiple sources of non-Federal funding if applicable. Include funding commitment letters outlining funding agreements, as attachments or in an appendix. If Federal funding is proposed as match, provide the applicant's determination of eligibility for such use and the legal basis for that determination. Identify any specific project components that the applicant proposes for partial project funding. Identify any previously incurred costs, as well as other sources of Federal funds committed to the project and any pending Federal requests. If the requested Federal funding under this NOFO or other programs must be obligated or spent by a certain date due to dependencies or relationships with other Federal or non-Federal funding sources, related projects, law, or other factors. Finally, if Federal funding for the project has previously been sought, and if applicable, explain how the new scope proposed to be funded under this NOFO relates to the previous scope. If applicable, provide the description and estimated value of any proposed in-kind contributions, and demonstrate how the in-kind contributions meet the requirements in 2 CFR 200.306.

Example Project Funding Table:

Task # | Task name/project component | Cost | Percentage of total cost
1. |  |  |
2. |  |  |
Total Activity Cost. |  |
Federal Funds Received from Previous Grant. |  |
Federal Funding Under this NOFO Request. |  |
Non-Federal Funding/Match. | Cash: In-Kind: |
Portion of Non-Federal Funding from the Private Sector. |  |
Portion of Total Activity Costs Spent in a Rural Area. |  |
Pending Federal Funding Requests. |  |

iv. Applicant Eligibility: Explain how the applicant meets the applicant eligibility as outlined in Section C of this notice. The explanation must include citations to the applicable enabling legislation.

v. Project Eligibility: Identify which project eligibility category or categories the project is eligible under in Section C(3) of this notice, and explain how the project meets the project eligibility criteria. Describe how the eligible expenses of the project are related to intercity passenger rail service to be operated by Amtrak and provide any supporting documentation.

vi. Detailed Project Description: Include a detailed project description that expands upon the brief project summary. This detailed description should provide, at a minimum, background on the challenges the project aims to support; the expected users and beneficiaries of the project, including all railroad operators and states; the specific components and elements of the project; and any other information the applicant deems necessary to justify the proposed project. For all projects, applicants must provide information about proposed performance measures, as discussed in Section F(3)(c) and required in 2 CFR 200.301.

vii. Project Location: If applicable, include geospatial information, such as latitude and longitude, of the project's location that includes the Congressional districts in which the project will take place, if applicable.

viii. Evaluation and Selection Criteria and DOT Strategic Goals: Include a thorough discussion of how the proposed project meets all the evaluation criteria and selection criteria and DOT Strategic Goals, as outlined in Section E of this notice. If an application does not sufficiently address the evaluation and selection criteria and DOT Strategic Goals, it is unlikely to be a competitive application.

ix. Project Implementation and Management: Describe proposed project implementation and project management arrangements. Include descriptions of the expected arrangements for contracting, contract oversight and control, change-order management, risk management, and conformance to Federal requirements for progress reporting (see https://www.fra.dot.gov/Page/P0274). Describe past experience in managing and overseeing similar grant awards.

b. Additional Application Elements

Applicants must submit:

i. A Statement of Work (SOW) addressing the scope, schedule, and budget for the proposed project if it were selected for award. The SOW must contain sufficient detail so FRA and the applicant can understand the expected outcomes of the proposed work to be performed and monitor progress toward completing project tasks and deliverables during a prospective grant's period of performance. Applicants must use FRA's standard SOW, schedule, and budget templates to be considered for award. The templates are located at https://www.fra.dot.gov/Page/P0325.

ii. SF 424—Application for Federal Assistance;

iii. SF 424A—Budget Information for Non-Construction or SF 424C—Budget Information for Construction;

iv. SF 424B—Assurances for Non-Construction or SF 424D—Assurances for Construction;

v. FRA's Additional Assurances and Certifications; and

vi. SF LLL—Disclosure of Lobbying Activities.

vii. A statement that the lead applicant has a system for procuring property and services under a Federal award under this NOFO that supports the provisions in 2 CFR 200 Subpart D—Procurement Standards at 2 CFR 200.317-326 and 2 CFR 1201.317.

viii. A statement indicating whether the applicant or any of its principals:

(A) is presently suspended, debarred, voluntarily excluded, or disqualified;

(B) has been convicted within the preceding three years of any of the offenses listed in 2 CFR 180.800(a); or had a civil judgment rendered against the organization or the individual for one of those offenses within that time period;

(C) is presently indicted for, or otherwise criminally or civilly charged by a governmental entity (Federal, state or local) with, commission of any of the offenses listed in 2 CFR 180.800(a); or,

(D) has had one or more public transactions (Federal, state, or local) terminated within the preceding three years for cause or default (including material failure to comply).

ix. FRA F 251, Applicant Financial Capability Questionnaire Forms needed for the electronic application process are at www.Grants.gov.

3. Unique Entity Identifier, and System for Award Management (SAM)

To apply for funding through Grants.gov, applicants must be properly registered in SAM before submitting an application, provide a valid unique entity identifier, and continue to maintain an active SAM registration all as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension. FRA may not make a grant award to an applicant until the applicant has complied with all applicable SAM requirements. If an applicant has not fully complied with these requirements by the time the Federal awarding agency is ready to make a Federal award, the Federal awarding agency may determine that the applicant is not qualified to receive a Federal award and use that determination as a basis for making a Federal award to another applicant. Late applications that are the result of a failure to register or comply with Grants.gov applicant requirements in a timely manner will not be considered. If an applicant has not fully complied with the requirements by the submission deadline, the application will not be considered. To submit an application through Grants.gov, applicants must:

a. Register With the SAM at www.SAM.gov

All applicants for Federal financial assistance must maintain current registrations in the SAM database. An applicant must be registered in SAM to successfully register in Grants.gov. The SAM database is the repository for standard information about Federal financial assistance applicants, recipients, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award, including information on a recipient's immediate and highest level owner and subsidiaries, as well as on all predecessors that have been awarded a Federal contract or grant within the last three years, if applicable. Information about SAM registration procedures is available at www.sam.gov.

b. Obtain a Unique Entity Identifier

On April 4, 2022, the federal government discontinued using DUNS numbers. The DUNS Number was replaced by a new, non-proprietary identifier that is provided by the System for Award Management (SAM.gov). This new identifier is called the Unique Entity Identifier (UEI), or the Entity ID. To find or request a Unique Entity Identifier, please visit www.sam.gov.

c. Create a Grants.gov Username and Password

Applicants must complete an Authorized Organization Representative (AOR) profile on www.Grants.gov and create a username and password. Applicants must use the organization's UEI to complete this step. Additional information about the registration process is available at: https://www.grants.gov/web/grants/applicants/organization-registration.html.

d. Acquire Authorization for Your AOR From the E-Business Point of Contact (E-Biz POC)

The E-Biz POC at the applicant's organization must respond to the registration email from Grants.gov and login at www.Grants.gov to authorize the applicant as the AOR. Please note there can be more than one AOR for an organization.

e. Submit an Application Addressing All Requirements Outlined in This NOFO

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html.

4. Submission Dates and Times

Applicants must submit complete applications to www.Grants.gov no later than 5 p.m. ET, July 10, 2023. In order to apply for funding under this announcement, all applicants are expected to be registered as an organization with Grants.gov. FRA reviews www.Grants.gov information on the dates and times of applications submitted to determine timeliness of submissions. Late applications will be neither reviewed nor considered. Applicants are strongly encouraged to apply early to ensure all materials are received before this deadline.

To ensure a fair competition of limited discretionary funds, the following conditions are not valid reasons to permit late submissions: (1) failure to complete the Grants.gov registration process before the deadline; (2) failure to follow Grants.gov instructions on how to register and apply as posted on its website; (3) failure to follow all instructions in this NOFO; and (4) technical issues experienced with the applicant's computer or information technology environment.

5. Intergovernmental Review

If Intergovernmental Review is required for this program, applicants must contact their State Single Point of Contact to comply with their State's process under Executive Order 12372.

6. Funding Restrictions

FRA is prohibited under 49 U.S.C. 22905(f) from providing Interstate Rail Compacts grants for commuter rail passenger transportation (as defined in 49 U.S.C. 24102(3)).

Consistent with 2 CFR 200.458, as applicable, FRA will only approve pre-award costs if such costs are incurred pursuant to the negotiation and in anticipation of the grant agreement and if such costs are necessary for efficient and timely performance of the scope of work. Under 2 CFR 200.458, grant recipients must seek written approval from FRA for pre-award activities to be eligible for reimbursement under the grant. Activities initiated prior to the execution of a grant or without FRA's written approval may be ineligible for reimbursement or matching contribution. Cost sharing or matching may be used only for authorized Federal award purposes.

7. Other Submission Requirements

For any supporting application materials that an applicant cannot submit via Grants.gov, such as oversized engineering drawings, an applicant may submit an original and two (2) copies to Mr. Marc Dixon, Office of Rail Program Development, Federal Railroad Administration, 1200 New Jersey Avenue SE, Mail Stop 20, Washington, DC 20590. Due to delays caused by enhanced screening of mail delivered via the U.S. Postal Service, FRA advises applicants to use other means of conveyance (such as courier service) to assure timely receipt of materials before the application deadline. Additionally, if documents can be obtained online, providing instructions to FRA on how to access files on a referenced website may also be sufficient.

Applicants should use generally accepted formats such as .pdf, .doc, .docx, .xls, .xlsx and .ppt, when uploading attachments. While applicants may embed picture files, such as .jpg, .gif, and .bmp, in document files, applicants should not submit attachments in these formats. Additionally, the following formats will not be accepted: .com, .bat, .exe, .vbs, .cfg, .dat, .db, .dbf, .dll, .ini, .log, .ora, .sys, and .zip.

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html.

E. Application Review Information

1. Criteria

a. Eligibility, Completeness and Applicant Risk Review

FRA will first screen each application for applicant and project eligibility (eligibility requirements are outlined in Section C of this notice), completeness (application documentation and submission requirements are outlined in Section D of this notice), applicant risk and the minimum match.

FRA will then consider applicant risk, including the applicant's past performance in developing and delivering other Federal grants and previous financial contributions, and if applicable, previous competitive grant technical evaluation ratings that the proposed project received under previous competitive grant programs administered by DOT.

b. Evaluation Criteria

FRA will evaluate all eligible and complete applications using the evaluation criteria outlined in this section to determine project benefits and technical merit.

i. Project Benefits

FRA will evaluate the summary of benefits provided in response to Section D(2)(a)(ii) including—

(A) Effects on system and service performance along an interstate passenger rail route;

(B) Effects on the promotion of intercity passenger rail service;

(C) Efficiencies from improved coordination of interstate passenger rail services with shared freight operations; and

(D) Ability to incorporate community and stakeholder engagement in transportation planning.

ii. Technical Merit

FRA will evaluate application information for the degree to which—

(A) The tasks and subtasks outlined in the SOW are appropriate to achieve the expected outcomes of the proposed project.

(B) Applications indicate ongoing commitment from each member state to achieving the proposed project.

(C) The applicant has, or will have the legal, financial, and technical capacity to carry out the proposed project. The technical qualifications and experience of key personnel proposed to lead and perform the technical efforts, and the qualifications of the primary and supporting organizations to fully and successfully execute the proposed project within the proposed timeframe and budget are demonstrated.

(D) The proposed project is consistent with planning guidance and documents set forth by DOT, including those required by law or State rail plans developed under Title 49, United State Code, chapter 227, as appropriate.

c. Selection Criteria

In addition to the eligibility and completeness review and the evaluation criteria outlined in this subsection, the FRA will apply the following selection criteria:

i. The amount of funding received (including funding from a rail carrier (as defined in section 24102)) or other participation by State, local, and regional governments and the private sector;

ii. The applicant's work to foster economic development through rail service, particularly in rural communities;

iii. Whether the applicant seeks to restore service over routes formerly operated by Amtrak, including routes described in section 11304(a) of the Passenger Rail Reform and Investment Act of 2015 (title XI of division A of Pub. L. 114-94);

iv. The applicant's dedication to providing intercity passenger rail service to regions and communities that are underserved or not served by other intercity public transportation;

v. Whether the applicant is enhancing connectivity and geographic coverage of the existing national network of intercity passenger rail service;

vi. Whether the applicant has prepared regional rail or corridor service development plans and corresponding environmental analysis; and

vii. Whether the applicant has engaged with appropriate government entities and transportation providers to identify projects necessary to enhance multimodal connections or facilitate service integration between rail service and other modes, including between intercity passenger rail service and intercity bus service or commercial air service.

d. DOT Strategic Goals

After the eligibility and completeness review and the evaluation and selection criteria outlined in this section, FRA will then consider the extent to which the projects address the following DOT Strategic Goals:

i. Safety

FRA will assess the project's ability to foster a safe transportation system for the movement of goods and people, consistent with the Department's strategic goal to reduce transportation-related fatalities and serious injuries across the transportation system. Such sounds considerations will include, but are not limited to, the extent to which the project improves safety at highway-rail grade crossings, reduces incidences of rail-related trespassing, and upgrades infrastructure to achieve a higher level of safety.

ii. Economic Strength and Global Competitiveness

FRA will assess the project's ability to contribute to economic progress stemming from infrastructure investment and associated job creation in the industry. Such considerations will include, but are not limited to, the extent to which the project results in high-quality job creation by supporting good-paying jobs with a free and fair choice to join a union, and in on-going operations and maintenance, and incorporates strong labor standards, such as through the use of project labor agreements or union neutrality agreements; includes comprehensive planning and policies to promote hiring of underrepresented populations including local and economic hiring preferences and investments in high-quality workforce development programs with supportive services, including labor-management programs, to help train, place, and retain people in good-paying jobs or registered apprenticeship, and invests in vital infrastructure assets.

iii. Equity

FRA will assess the project's ability to address equity and barriers to opportunity, to the extent possible within the program and consistent with law. Such considerations will include, but are not limited to, the applicant's plan for using small businesses to complete its project, the extent to which the project improves or expands transportation options, the extent to which the project improve or expands access to jobs and services and mitigates the safety risks and detrimental quality of life effects that rail lines can have on communities. This will also include community engagement efforts already taken or planned, the extent to which engagement efforts are designed to reach impacted communities, whether engagement is accessible for persons with disabilities or limited English proficient persons within the impacted communities, and how community feedback is taken into account in decision-making.

In determining the allocation of program funds, FRA may also consider geographic diversity and the applicant's receipt of other competitive awards.

2. Review and Selection Process

FRA will conduct a four-part application review process, as follows:

a. Screen applications for applicant and project eligibility, completeness, the minimum match and applicant risk including past performance in developing and delivering similar projects;

b. Apply evaluation criteria to remaining applications (completed by technical panels);

c. Apply selection criteria and DOT Strategic Goals and recommend initial selection of projects for the FRA Administrator's review (completed by a Senior Review Team, which includes senior leadership from the Office of the Secretary and FRA); and

d. Select recommended awards for the Secretary's or his designee review and approval (completed by the FRA Administrator).

3. Reporting Matters Related to Integrity and Performance

a. Before making a Federal award with a total amount of Federal share greater than the simplified acquisition threshold of $250,000 (see 2 CFR 200.88 Simplified Acquisition Threshold), FRA will review and consider any information about the applicant that is in the designated integrity and performance system accessible through SAM (currently the Federal Awardee Performance and Integrity Information System (FAPIIS)). See 41 U.S.C. 2313.

b. An applicant, at its option, may review information in the designated integrity and performance systems accessible through SAM and comment on any information about itself that a Federal awarding agency previously entered and is currently in the designated integrity and performance system accessible through SAM.

c. FRA will consider any comments by the applicant, in addition to the other information in the designated integrity and performance system, in making a judgment about the applicant's integrity, business ethics, and record of performance under Federal awards when completing the review of risk posed by applicants as described in 2 CFR 200.205.

F. Federal Award Administration Information

1. Federal Award Notices

FRA will announce applications selected for funding in a press release and on FRA's website after the application review period. This announcement is FRA's notification to successful and unsuccessful applicants alike. FRA will contact applicants with successful applications after announcement with information and instructions about the award process. This notification is not an authorization to begin proposed project activities. FRA requires satisfaction of applicable requirements by the applicant and a formal agreement signed by both the grant recipient and the FRA, including an approved scope, schedule, and budget, before obligating the grant. See an example of standard terms and conditions for FRA grant awards at https://railroads.dot.gov/elibrary/award-administration-and-grant-conditions. This template is subject to revision.

2. Administrative and National Policy Requirements

Performance under this Program will be governed by and in compliance with the following requirements as applicable to the type of organization of the recipient and any applicable sub-recipients.

It is the policy of DOT to reflect Administration priorities and incorporate criteria for selection considerations related to racial equity including environmental justice, Title VI and other federal Civil Rights laws, and barriers to opportunity, labor, and workforce in its grant programs, to the extent possible and consistent with law.

All awards will be administered pursuant to the Uniform Administrative Requirements, Cost Principles and Audit Requirements for Federal Awards found in 2 CFR part 200, as adopted by DOT at 2 CFR part 1201.

In connection with any program or activity conducted with or benefiting from funds awarded under this notice, recipients of funds must comply with all applicable requirements of Federal law, including, without limitation, the Constitution of the United States statutory, regulatory, and public policy requirements, including without limitation, those protecting free speech, religious liberty, public welfare, the environment, and prohibiting discrimination; the conditions of performance, non-discrimination requirements, and other assurances made applicable to the award of funds in accordance with regulations of the Department of Transportation; and applicable Federal financial assistance and contracting principles promulgated by the Office of Management and Budget. In complying with these requirements, recipients must ensure that no concession agreements are denied, or other contracting decisions made on the basis of speech or other activities protected by the First Amendment. If FRA determines that a recipient has failed to comply with applicable Federal requirements, FRA may terminate the award of funds and disallow previously incurred costs, requiring the recipient to reimburse any expended award funds

3. Reporting

a. Progress Reporting on Grant Activity

Each applicant selected for a grant will be required to comply with all standard FRA reporting requirements, including quarterly progress reports, quarterly Federal financial reports, and interim and final performance reports, as well as all applicable auditing, monitoring and close out requirements. Reports may be submitted electronically. Pursuant to 2 CFR 170.210, non-Federal entities applying under this NOFO must have the necessary processes and systems in place to comply with the reporting requirements should they receive Federal funding.

b. Additional Reporting

Applicants selected for funding are required to comply with all reporting requirements in the standard terms and conditions for FRA grant awards including 2 CFR 180.335 and 2 CFR 180.350.

If the Federal share of any Federal award under this NOFO may include more than $500,000 over the period of performance, applicants are informed of the post award reporting requirements reflected in 2 CFR part 200, appendix XII—Award Term and Condition for Recipient Integrity and Performance Matters.

c. Performance and Program Evaluation

Program Evaluation As a condition of grant award, grant recipients may be required to participate in an evaluation undertaken by DOT, or another agency or partner. The evaluation may take different forms such as an implementation assessment across grant recipients, an impact and/or outcomes analysis of all or selected sites within or across grant recipients, or a benefit/cost analysis or assessment of return on investment. The Department may require applicants to collect data elements to aid the evaluation. As a part of the evaluation, as a condition of award, grant recipients must agree to: (1) make records available to the evaluation contractor; (2) provide access to program records, and any other relevant documents to calculate costs and benefits; (3) in the case of an impact analysis, facilitate the access to relevant information as requested; and (4) follow evaluation procedures as specified by the evaluation contractor or DOT staff.

Recipients and sub-recipients are also encouraged to incorporate program evaluation including associated data collection activities from the outset of their program design and implementation to meaningfully document and measure the effectiveness of their projects and strategies. Title I of the Foundations for Evidence-Based Policymaking Act of 2018 (Evidence Act), Public Law 115-435 (2019) urges Federal awarding agencies and Federal assistance recipients and sub-recipients to use program evaluation as a critical tool to learn, to improve equitable delivery, and to elevate program service and delivery across the program lifecycle. Evaluation means “an assessment using systematic data collection and analysis of one or more programs, policies, and organizations intended to assess their effectiveness and efficiency” (codified at 5 U.S.C. 311). For grant recipients, evaluation expenses are allowable costs (either as direct or indirect), unless prohibited by statute or regulation, and such expenses may include the personnel and equipment needed for data infrastructure and expertise in data analysis, performance, and evaluation (2 CFR 200).

d. Performance Reporting

Each applicant selected for funding must report on the project's performance using measures mutually agreed upon by FRA and the grant recipient to assess progress in achieving the DOT strategic goals and objectives.

Examples of some rail performance measures for Program funding are listed in the table below. The applicable measure(s) will depend upon the type of project.

Programmatic measures | Unit measured | Temporal | Description
Administrative Support Provided | Additional staff capacity | Annual | The hours of staff, administrative professional and/or technical personnel, in absence of the programmatic funding, that have been added to support the activities or work products that facilitate Interstate Rail Compacts carrying out their duties effectively and timely, including information technology, accounting, human resources, and procurement.
Creation of new or updates to existing regional rail planning studies | Number of reports | Annual | The development of a high-level planning study that considers new transportation services or enhancing existing transportation systems by examining broad needs, challenges, and opportunities, including studying the impacts of freight rail operations on system performance and ridership.
Promotion of Intercity Passenger Rail Operations | Number of marketing and advertising campaigns or outreach efforts | Annual | Promotional activities include website development, social media management, print materials, direct advertising, collecting customer feedback, and stakeholder outreach.
Preparation of applications for Federal grant program | Number of grant programs applied to or time/resources spent on applying | Annual | The development and support needed, including, technical staff or contractor support to prepare applications and documentation associated with preparing an application for financial assistance. These activities include preparing operating plans, funding plans, benefit-cost analysis, and any other documentation that is required to be provided as part of an application for a federal grant.

G. Federal Awarding Agency Contacts

For further information regarding this notice and the grants program, please contact the FRA NOFO Support program staff via email at FRA-NOFO-Support@dot.gov. If additional assistance is needed, you may contact Mr. Marc Dixon, Office of Rail Program Development, Federal Railroad Administration; email: marc.dixon@dot.gov phone: 202-493-0614.

H. Other Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The DOT regulations implementing the Freedom of Information Act (FOIA) are found at 49 CFR part 7 subpart C—Availability of Reasonably Described Records under the Freedom of Information Act which sets forth rules for FRA to make requested materials, information and, records publicly available under FOIA. Unless prohibited by law and to the extent permitted under the FOIA, contents of application and proposals submitted by successful applicants may be released in response to FOIA requests.

Issued in Washington, DC.
Amitabha Bose,
Administrator.

[FR Doc. 2023-09863 Filed 5-8-23; 8:45 am]

BILLING CODE 4910-06-P